DEPARTMENT OF COMMERCE

Foreign-Trade Zones Board

[B-11-2020]

Foreign-Trade Zone (FTZ) 119, Minneapolis, Minnesota; Notification of Proposed Production Activity; SICK Product & Competence Center Americas, LLC (Safety and Tracking Systems, Safety Light Curtains, and Connector Assemblies), Savage, Minnesota

The Greater Metropolitan Area FTZ Commission, grantee of FTZ 119, submitted a notification of proposed production activity to the FTZ Board on behalf of SICK Product & Competence Center Americas, LLC (SICK Product), located in Savage, Minnesota. The notification conforming to the requirements of the regulations of the FTZ Board (15 CFR 400.22) was received on February 20, 2020.

Sick Product already has authority (approved as SICK, Inc.) to produce photo-electronic industrial sensors, encoders, optical readers, and monitoring systems within FTZ 119. The current request would add four finished products and additional foreign status materials/components to the scope of authority. Pursuant to 15 CFR 400.14(b), additional FTZ authority would be limited to the specific foreign-status materials/components and specific finished products described in the submitted notification (as described below) and subsequently authorized by the FTZ Board.

Production under FTZ procedures could exempt SICK Product from customs duty payments on the foreign-status materials/components used in export production. On its domestic sales, for the foreign-status materials/components noted below and in the existing scope of authority, SICK Product would be able to choose the duty rates during customs entry procedures that apply to: Track and trace, safety monitoring, and quality control systems; system connector assemblies; safety light curtains; and, safety light curtain connector assemblies (duty-free). SICK Product would be able to avoid duty on foreign-status components which become scrap/waste. Customs duties also could possibly be deferred or reduced on foreign-status production equipment.

The materials/components sourced from abroad include steel brackets, aluminum housings, aluminum shafts, safety relays, safety controllers, cables and connectors, and image capturing systems (duty rate ranges from 2.5 to 5.0%). The request indicates that certain materials/components are subject to special duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is April 14, 2020.

A copy of the notification will be available for public inspection in the “Reading Room” section of the Board's website, which is accessible via www.trade.gov/ftz.

For further information, contact Juanita Chen at juanita.chen@trade.gov or 202-482-1378.

Dated: February 27, 2020.
Andrew McGilvray,
Executive Secretary.

[FR Doc. 2020-04509 Filed 3-4-20; 8:45 am]

BILLING CODE 3510-DS-P